GENERAL SERVICES ADMINISTRATION

[Notice-S-2023-01; Docket No. 2023-0002; Sequence No. 7]

Tribal Consultation Meeting

AGENCY: Office of Congressional and Intergovernmental Affairs; General Services Administration, (GSA).

ACTION: Notice of meeting.

SUMMARY: Pursuant to the Presidential Memorandum on Tribal Consultation and Strengthening Nation-to-Nation Relationships, dated January 26, 2021, a notice is hereby given for a Government-to-Government consultation to discuss Tribal interests and concerns surrounding GSA's support of Tribes. In particular, GSA would like to discuss: a resource that GSA publishes titled “Tribes and Tribal Organizations: Guide to Using GSA Solutions”; a special GSA initiative around Carbon Pollution-Free Electricity Procurement; and a special GSA initiative relating to Electric Vehicles. GSA recognizes that formal consultation with Tribal Nations is essential as GSA takes actions to implement and develop policies that might affect them.

DATES: Monday, April 3, 2023, 1:00-2:50 p.m., Pacific Time.

ADDRESSES: Reservation Economic Summit (RES) 2023 held at 3570 S Las Vegas Blvd., Las Vegas, NV 89109.

FOR FURTHER INFORMATION CONTACT: Gianelle Rivera, Associate Administrator, GSA Office of Congressional and Intergovernmental Affairs, email tribalaffairs@gsa.gov, or phone 202-701-9711. Register for the Consultation and find supporting documentation at https://www.gsa.gov/resources/native-american-tribes.

SUPPLEMENTARY INFORMATION:

Background

GSA is consulting with Tribal governments about their interests and concerns surrounding GSA's support of Tribes with a focus on three agency initiatives.

Tribes and Tribal Organizations—Guide To Using GSA Solutions

“Tribes and Tribal Organizations: Guide to Using GSA Solutions” outlines how Tribes and Tribal organizations are eligible to use GSA solutions in the procurement of goods and services. The guide explains the various authorities that support Tribes' and Tribal organizations' use of GSA sources and programs, and identifies resources currently available for use. GSA's intent in consulting on this document, which is continuously in the process of being updated, is to invite Tribal feedback to assist GSA in improving the existing guidance to help ensure that it speaks to needs that are unique to Tribes and better supports future Tribal acquisitions.

Implementation of the Indian Energy Purchase Preference at Federal Facilities

As part of its second Tribal National Summit on November 30, 2022, the Biden-Harris administration announced its commitment to ensure that investments in the clean energy economy reach Tribal lands. GSA will lead a pilot focused on Tribal energy production to develop procurement strategies. GSA's intent in consulting on this topic is to gain important insight directly from Tribes, tribally owned businesses, Tribal utilities, and Tribal entrepreneurs regarding the availability, development, or challenges associated with generating and/or selling carbon pollution-free electricity to the Federal Government in order to inform GSA's development of the pilot.

Electric Vehicle (EV) Initiative for Tribal Nations

The EV Initiative for Tribal Nations helps to ensure that Tribal Nations and Native communities are part of the EV future of the country. To support this initiative, GSA is seeking input to understand Tribal Nations' role and needs as GSA, subject to applicable authorities, assists Tribes with purchasing or leasing electric vehicles, mapping the Federal facilities in Indian country to support EV infrastructure deployment, and expanding training for Tribal members on the GSA solutions available.

You can register for the Consultation and find supporting documentation at https://www.gsa.gov/resources/native-american-tribes. These documents are intended to help Tribal leaders anticipate discussion items for consultation and consider Tribal interests related to the topics. The official comment period for this consultation will remain open for 30 days after the in-person consultation session takes place. However, our partnership with Tribal leadership will remain ongoing.

Comments can be submitted by email at tribalaffairs@gsa.gov. Please use the subject line “GSA 2023 TRIBAL CONSULTATION COMMENTS SUBMISSION.” While registration for the RES 2023 event is not required to participate, we do ask that you register for the consultation through our website or onsite so that we can accurately identify the Tribal representatives present at the meeting.

Gianelle Rivera,
Associate Administrator, Office of Congressional and Intergovernmental Affairs, General Services Administration.

[FR Doc. 2023-05432 Filed 3-16-23; 8:45 am]

BILLING CODE 6820-34-P